DEPARTMENT OF LABOR

Employment and Training Administration

[TA-W-35,024]

Condor DC Power Supplies, Inc., The Todd Products Group, Brentwood, New York; Amended Certification Regarding Eligibility To Apply for Worker Adjustment Assistance

In accordance with Section 223 of the Trade Act of 1974 (19 U.S.C. 2273) the Department of Labor issued a Certification of Eligibility to Apply for Worker Adjustment Assistance on November 9, 1998, applicable to workers of Todd Products Corporation, Brentwood, New York. The notice was published in the Federal Register on December 4, 1998 (63 FR 67140).

At the request of the company, the Department reviewed the certification for workers of the subject firm. The workers are engaged in the production of electronic power supply devices. New information received from the company shows that in July, 1999, Condor DC Power Supplies, Inc. purchased Todd Products Corporation and became known as Condor DC Power Supplies, Inc., The Todd Products Group. Information also shows that workers separated from employment at Todd Products Corporation had their wages reported under a separate unemployment insurance (UI) tax account for Condor Power Supplies, Inc., The Todd Products, Group.

Accordingly, the Department is amending the certification to properly reflect this matter.

The amended notice applicable to TA-W-35,024 is hereby issued as follows:

All workers of Condor DC Power Supplies, Inc., The Todd Products Group, Brentwood, New York who becomes totally or partially separated from employment on or after September 15, 1997 through November 9, 2000 are eligible to apply for adjustment assistance under Section 223 of the Trade Act of 1974.

Signed at Washington, DC this 10th day of March, 2000.
Grant D. Beale,
Program Manager, Division of Trade Adjustment Assistance.

[FR Doc. 00-7484 Filed 3-24-00; 8:45 am]

BILLING CODE 4510-30-M